COMMITTEE FOR PURCHASE FROM PEOPLE WHO ARE BLIND OR SEVERELY DISABLED

Procurement List Deletions

AGENCY: Committee for Purchase From People Who Are Blind or Severely Disabled.

ACTION: Deletions from the Procurement List.

SUMMARY: This action deletes products from the Procurement List previously furnished by nonprofit agencies employing persons who are blind or have other severe disabilities.

DATES: Effective Date: 3/16/2015.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION:

Deletions

On 12/30/2014 (79 FR 78407) and 1/12/2015 (80 FR 1494), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

Product Names/NSNs

Shirt, Flyers, Midweight, Fire Resistant, MPS, Navy, Men's, Black

NSN: 8415-00-NSH-0504—XSR

NSN: 8415-00-NSH-0505—SR

NSN: 8415-00-NSH-0506—MR

NSN: 8415-00-NSH-0507—LR

NSN: 8415-00-NSH-0508—XLR

NSN: 8415-00-NSH-0766—X Small Short

NSN: 8415-00-NSH-0767—X Small Long

NSN: 8415-00-NSH-0768—Small Short

NSN: 8415-00-NSH-0769—Small Long

NSN: 8415-00-NSH-0770—Medium Short

NSN: 8415-00-NSH-0771—Medium Long

NSN: 8415-00-NSH-0772—Large Short

NSN: 8415-00-NSH-0773—Large Long

NSN: 8415-00-NSH-0774—X Large Short

NSN: 8415-00-NSH-0775—X Large Long

Drawers, Flyers, Midweight, Fire Resistant, MPS, Navy, Men's, Long, Black

NSN: 8415-00-NSH-0509—XSR

NSN: 8415-00-NSH-0510—SR

NSN: 8415-00-NSH-0511—MR

NSN: 8415-00-NSH-0512—LR

NSN: 8415-00-NSH-0513—XLR

NSN: 8415-00-NSH-0776—X Small Short

NSN: 8415-00-NSH-0777—X Small Long

NSN: 8415-00-NSH-0778—Small Short

NSN: 8415-00-NSH-0779—Small Long

NSN: 8415-00-NSH-0780—Medium Short

NSN: 8415-00-NSH-0781—Medium Long

NSN: 8415-00-NSH-0782—Large Short

NSN: 8415-00-NSH-0783—Large Long

NSN: 8415-00-NSH-0784—X Large Short

NSN: 8415-00-NSH-0785—X Large Long

Shirt, Flyers, Midweight, Fire Resistant, MPS, Navy, Women's, Black

NSN: 8415-00-NSH-0786—X Small Short

NSN: 8415-00-NSH-0787—X Small Regular

NSN: 8415-00-NSH-0788—X Small Long

NSN: 8415-00-NSH-0789—Small Short

NSN: 8415-00-NSH-0790—Small Regular

NSN: 8415-00-NSH-0791—Small Long

NSN: 8415-00-NSH-0792—Medium Short

NSN: 8415-00-NSH-0793—Medium Regular

NSN: 8415-00-NSH-0794—Medium Long

NSN: 8415-00-NSH-0795—Large Short

NSN: 8415-00-NSH-0796—Large Regular

NSN: 8415-00-NSH-0797—Large Long

NSN: 8415-00-NSH-0798—X Large Short

NSN: 8415-00-NSH-0799—X Large Regular

NSN: 8415-00-NSH-0800—X Large Long

Drawers, Power Stretch Underwear, MPS, Army, Women's, Sage Green

NSN: 8415-00-NSH-0801—X Small Short

NSN: 8415-00-NSH-0802—X Small Regular

NSN: 8415-00-NSH-0803—X Small Long

NSN: 8415-00-NSH-0804—Small Short

NSN: 8415-00-NSH-0805—Small Regular

NSN: 8415-00-NSH-0806—Small Long

NSN: 8415-00-NSH-0807—Medium Short

NSN: 8415-00-NSH-0808—Medium Regular

NSN: 8415-00-NSH-0809—Medium Long

NSN: 8415-00-NSH-0810—Large Short

NSN: 8415-00-NSH-0811—Large Regular

NSN: 8415-00-NSH-0812—Large Long

NSN: 8415-00-NSH-0813—X Large Short

NSN: 8415-00-NSH-0814—X Large Regular

NSN: 8415-00-NSH-0815—X Large Long

Mandatory Source of Supply: No Nonprofit Agency authorized

Contracting Activities: Dept of the Army, W40M Northern Region Contracting Office, Fort Belvoir, VA

Dept of the Navy, U S Fleet Forces Command, Norfolk, VA

Product Name/NSN

Steno Pad Holder, Vinyl/7510-01-455-0020

Mandatory Source of Supply: The Arkansas Lighthouse for the Blind, Little Rock, AR

Contracting Activity: General Services Administration, New York, NY

Product Names/NSNs

Pen, Ergonomic, Ballpoint, “The Constitution”/7520-01-454-7996

Pen, “Patriot” Ergonomic/7520-01-454-7997

Pen, Ball Point, Liberty Writer, Retractable, Cushion Grip, Black Ink, Fine Point/7520-01-454-7998

Pen, Ball Point, Liberty Writer, Retractable, Cushion Grip, Black Ink, Medium Point NSN: 7520-01-454-7999

Pen & Pencil Set, “The Liberty”/7520-01-439-3393

Pen, Ball Point, Retractable, Stealth Writer, Woodland Green Camouflage, Black Ink, Medium Point/7520-01-439-3407

Pen, Ball Point, Retractable, Stealth Writer, Desert Tan Camouflage, Black ink, Medium Point/7520-01-439-3408

Mandatory Source of Supply: Industries for the Blind, Inc., West Allis, WI

Contracting Activity: General Services Administration, New York, NY

Product Names/NSNs

Clock, Atomic, Standard, Thermometer

NSN: 6645-01-491-9819

NSN: 6645-01-491-9826

Clock, Wall

NSN: 6645-01-421-6899

NSN: 6645-01-456-6029—Customized

Slimline Workstation Clocks

NSN: 6645-01-516-9623—6″ Federal Logo—Brown

NSN: 6645-01-516-9624—6″ Black Case

NSN: 6645-01-516-9625—6″ Brown Case

NSN: 6645-01-516-9628—6″ Federal Logo—Black

Mandatory Source Of Supply: The Chicago Lighthouse for People Who Are Blind or Visually Impaired, Chicago, IL

Contracting Activity: General Services Administration, New York, NY

Product Names/NSNs

Use in Canon printers BJC3000/6000/6200/6500/S400/7510-01-544-0840

Inkjet printer cartridge/compatible with Epson Part No. T029201. Tri color/7510-01-555-6172

Cartridge, Inkjet, Compatible with Canon BCI-15BK, Black, 185 Page Yield/7510-01-555-6174

Inkjet printer cartridge/7510-01-555-6175

Inkjet printer cartridge/7510-01-555-6176

Inkjet printer cartridge/7510-01-555-6177

Mandatory Source of Supply: Alabama Industries for the Blind, Talladega, AL

Contracting Activity: General Services Administration, New York, NY

Product Name/NSN: Marker, Tube Type, Broad Tip/7520-01-424-4858

Mandatory Source of Supply: Dallas Lighthouse for the Blind, Inc., Dallas, TX

Contracting Activity: General Services Administration, New York, NY

Product Name/NSN:

Handle, Mop, Lockjaw, Wood/7920-01-452-2028

Mandatory Source Of Supply: Alphapointe, Kansas City, MO

Contracting Activity: General Services Administration, Fort Worth, TX

Product Name/NSNs:

Bag, Plastic

NSN: 8105-00-NIB-0011

NSN: 8105-00-NIB-0012

NSN: 8105-00-NIB-0013

NSN: 8105-00-NIB-0014

NSN: 8105-00-NIB-0015

NSN: 8105-00-NIB-0016

NSN: 8105-00-NIB-0017

NSN: 8105-00-NIB-0018

NSN: 8105-00-NIB-0019

NSN: 8105-00-NIB-0020

Mandatory Source of Supply: Unknown

Contracting Activity: U.S. Fleet Forces Command, Norfolk, VA

Product Names/NSNs

Flexible Erasable Wall Planners

NSN: 7510-01-600-8032—Dated 2014 18-month Paper Wall Planner, 24″ x 37″

NSN: 7510-01-600-8042—Dated 2014 12-Month 2-Sided Laminated Wall Planner, 24″ x 37″

NSN: 7520-01-585-0982—Planner, Flexible, Erasable, Undated, Vacation

Mandatory Source of Supply: The Chicago Lighthouse for People Who Are Blind or Visually Impaired, Chicago, IL

Contracting Activity: General Services Administration, FSS Household and Industrial Furniture, Arlington, VA

Product Names/NSNs

Daily Desk Planner, Dated 2014, Wire bound, Non-refillable, Black Cover/7530-01-600-7567

Wall Calendar, Dated 2014, Wire Bound w/Hanger, 12″ x 17″/7510-01-600-7570

Monthly Desk Planner, Dated 2014, Wire Bound, Non-refillable, Black cover/7530-01-600-7598

Weekly Desk Planner, Dated 2014, Wire Bound, Non-refillable, Black cover/7530-01-600-7609

Monthly Wall Calendar, Dated 2014, Jan-Dec, 8½″ x 11″/7510-01-600-7623

Weekly Planner Book, Dated 2014, 5″ x 8″, Digital Camouflage/7530-01-600-7624

Wall Calendar, Dated 2014, Wire Bound w/hanger, 15.5″ x 22″/7510-01-600-7636

Mandatory Source Of Supply: The Chicago Lighthouse for People Who Are Blind or Visually Impaired, Chicago, IL

Contracting Activity: General Services Administration, New York, NY

Product Names/NSNs:

Paper, Mimeograph and Duplicating/7530-00-285-3072

Paper, Mimeograph and Duplicating/7530-00-285-3073

Paper, Writing/7530-00-285-5836

Paper, Bond & Writing/7530-00-616-7284

Mandatory Source of Supply: Louisiana Association for the Blind, Shreveport, LA

Contracting Activity: General Services Administration, New York, NY

Patricia Briscoe,
Deputy Director, Business Operations (Pricing and Information Management).

[FR Doc. 2015-03044 Filed 2-12-15; 8:45 am]

BILLING CODE 6353-01-P